DEPARTMENT OF TRANSPORTATION

Federal Aviation Administration

[Docket No. FAA-2025-0492]

Agency Information Collection Activities: Requests for Comments; Clearance of Renewed Approval of Information Collection: FAA Advisory Circular 120-119, Voluntary Safety Management System for Other Regulated Entities Transporting Dangerous Goods by Air

AGENCY: Federal Aviation Administration (FAA), DOT.

ACTION: Notice and request for comments.

SUMMARY: In accordance with the Paperwork Reduction Act of 1995, the FAA invites public comments about our intention to request the Office of Management and Budget (OMB) approval to renew an information collection. The collection involves entities that voluntarily follow the guidance in FAA Advisory Circular (AC) 120-119, Voluntary Safety Management System (SMS) for Other Regulated Entities Transporting Dangerous Goods by Air, on how to use the FAA regulatory SMS principles as a basis to develop and implement a voluntary SMS program and how to submit such program to the FAA for acceptance.

DATES: Written comments should be submitted by August 18, 2025.

ADDRESSES: Please send written comments:

By Electronic Docket: www.regulations.gov (Enter docket number into search field).

By mail: Shelby Geller, Security and Hazardous Materials Safety, Office of Hazardous Materials Safety (AXH-520), Federal Aviation Administration, 800 Independence Avenue SW, Room 300 East, Washington, DC 20591.

By fax: 202-267-8496.

FOR FURTHER INFORMATION CONTACT: Shelby Geller by email at: hazmatinfo@faa.gov; phone: 405-954-0088.

SUPPLEMENTARY INFORMATION:

Public Comments Invited: You are asked to comment on any aspect of these information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of these information collections.

OMB Control Number: 2120-0811.

Title: FAA Advisory Circular 120-119, Voluntary Safety Management System for Other Regulated Entities Transporting Dangerous Goods by Air.

Form Numbers: No FAA forms are associated with this information collection.

Type of Review: Renewal of an information collection.

Background: AC 120-119 provides information on how entities subject to the regulatory requirements of Title 49 of the Code of Federal Regulations (CFR) parts 171-180 (e.g., entities performing functions such as, but not limited to, handling or shipping of dangerous goods by air and hereinafter referred to as an Other Regulated Entity or ORE) may choose to voluntarily implement an SMS as described in Title 14 CFR, Part 5, Safety Management Systems. Each ORE that elects to participate in the FAA's voluntary SMS program develops an SMS implementation plan, which is submitted to the FAA for approval. Once implemented, the ORE collects and analyzes safety data and maintains training and communications records for its SMS.

Respondents: The FAA estimates one new respondent and four continual respondents annually.

Frequency: Information is collected on occasion. Respondents who voluntarily elect to participate in the voluntary SMS program submit a one-time implementation plan and occasionally provide updated SMS information after implementation.

Estimated Average Burden per Response: 4,160 hours for new respondents and 170 hours for continual respondents.

Estimated Total Annual Burden: 4,160 hours for new respondents and 680 hours for continual respondents.

Issued in Washington, DC, on June 13, 2025.
Walter Burrows,
Executive Director (A), FAA, Office of Hazardous Materials Safety.

[FR Doc. 2025-11161 Filed 6-16-25; 8:45 am]

BILLING CODE 4910-13-P